DEPARTMENT OF ENERGY

Federal Energy Regulatory Commission

Combined Notice of Filings #2

Take notice that the Commission received the following electric corporate filings:

Docket Numbers: EC19-35-000.

Applicants: Bridgeport Energy LLC, Rumford Power Inc., Tiverton Power LLC, Revere Power, LLC.

Description: Joint Application for Authorization Under Section 203 of the Federal Power Act, et al. of Bridgeport Energy LLC, et al.

Filed Date: 12/14/18.

Accession Number: 20181214-5124.

Comments Due: 5 p.m. ET 1/4/19.

Docket Numbers: EC19-36-000.

Applicants: NextEra Energy Transmission, LLC, Trans Bay Cable LLC.

Description: Joint Application for Authorization Under Section 203 of the Federal Power Act, et al. of NextEra Energy Transmission, LLC, et al.

Filed Date: 12/14/18.

Accession Number: 20181214-5169.

Comments Due: 5 p.m. ET 1/4/19.

Take notice that the Commission received the following electric rate filings:

Docket Numbers: ER10-2762-001.

Applicants: Linde Energy Services, Inc.

Description: Supplement to November 9, 2018 Notice of Non-Material Change in Status of Linde Energy Services, Inc.

Filed Date: 12/14/18.

Accession Number: 20181214-5095.

Comments Due: 5 p.m. ET 1/4/19.

Docket Numbers: ER10-3254-003.

Applicants: Cooperative Energy Inc. (An Electric Membership Corporation).

Description: Amendment to December 22, 2017 Updated Market Power Analysis of Cooperative Energy Inc. (An Electric Membership Corporation).

Filed Date: 12/14/18.

Accession Number: 20181214-5202.

Comments Due: 5 p.m. ET 1/4/19.

Docket Numbers: ER18-1599-000.

Applicants: Ohio Valley Electric Corporation.

Description: Report Filing: Refund Report to be effective N/A.

Filed Date: 12/14/18.

Accession Number: 20181214-5126.

Comments Due: 5 p.m. ET 1/4/19.

Docket Numbers: ER19-168-001.

Applicants: Midcontinent Independent System Operator, Inc., ALLETE, Inc.

Description: Tariff Amendment: 2018-12-14_SA 3195 MP-GRE T-L IA Substitute (Shoal Lake) to be effective 10/24/2018.

Filed Date: 12/14/18.

Accession Number: 20181214-5059.

Comments Due: 5 p.m. ET 1/4/19.

Docket Numbers: ER19-555-000.

Applicants: Duke Energy Ohio, Inc., Duke Energy Kentucky, Inc.,PJM Interconnection, L.L.C.

Description: § 205(d) Rate Filing: DEOK submits revisions to OATT, Attachment H-22A re: Depreciation Rates to be effective 5/1/2018.

Filed Date: 12/14/18.

Accession Number: 20181214-5040.

Comments Due: 5 p.m. ET 1/4/19.

Docket Numbers: ER19-556-000.

Applicants: NorthWestern Corporation.

Description: § 205(d) Rate Filing: SA 31 19th Rev—NITSA with Phillips 66 Company to be effective 3/1/2019.

Filed Date: 12/14/18.

Accession Number: 20181214-5045.

Comments Due: 5 p.m. ET 1/4/19.

Docket Numbers: ER19-557-000.

Applicants: Louisville Gas and Electric Company.

Description: Tariff Cancellation: GSS Tariff Notice of Cancellation to be effective 2/12/2019.

Filed Date: 12/14/18.

Accession Number: 20181214-5061.

Comments Due: 5 p.m. ET 1/4/19.

Docket Numbers: ER19-558-000.

Applicants: San Diego Gas & Electric Company.

Description: § 205(d) Rate Filing: 2019 SDGE RS Annual Update to Transmission Owner Tariff to be effective 1/1/2019.

Filed Date: 12/14/18.

Accession Number: 20181214-5098.

Comments Due: 5 p.m. ET 1/4/19.

Docket Numbers: ER19-559-000.

Applicants: PJM Interconnection, L.L.C.

Description: § 205(d) Rate Filing: Amendment to ISA, SA No. 4451; Queue No. AA1-063A to be effective 4/5/2016.

Filed Date: 12/14/18.

Accession Number: 20181214-5150.

Comments Due: 5 p.m. ET 1/4/19.

Docket Numbers: ER19-560-000.

Applicants: NorthWestern Corporation.

Description: § 205(d) Rate Filing: SA 304 12th Rev—NITSA with Barretts Minerals to be effective 3/1/2019.

Filed Date: 12/14/18.

Accession Number: 20181214-5165.

Comments Due: 5 p.m. ET 1/4/19.

Docket Numbers: ER19-561-000.

Applicants: Meadow Creek Project Company LLC.

Description: § 205(d) Rate Filing: CFA Certificate of Concurrence to be effective 2/12/2019.

Filed Date: 12/14/18.

Accession Number: 20181214-5207.

Comments Due: 5 p.m. ET 1/4/19.

Take notice that the Commission received the following qualifying facility filings:

Docket Numbers: QF19-579-000.

Applicants: UE-00209NJ.

Description: Form 556 of UE-00209NJ.

Filed Date: 12/13/18.

Accession Number: 20181213-5231.

Comments Due: None-Applicable.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 14, 2018.
Nathaniel J. Davis, Sr.,
Deputy Secretary.

[FR Doc. 2018-27730 Filed 12-20-18; 8:45 am]

BILLING CODE 6717-01-P